ENVIRONMENTAL PROTECTION AGENCY

[FRL-9784-5]

Proposed CERCLA Administrative Cost Recovery Settlement; in re: Factory H Superfund Site, Meriden, Connecticut

AGENCY: U.S. Environmental Protection Agency (EPA).

ACTION: Notice of proposed settlement; request for public comment.

SUMMARY: In accordance with Section 122(i) of the Comprehensive Environmental Response, Compensation, and Liability Act, as amended (“CERCLA”), 42 U.S.C. 9622(i), notice is hereby given of a proposed administrative settlement for recovery of response costs under CERCLA Section 122(h)(1) concerning the Factory H Superfund Site in Meriden, Connecticut (“Site”) with the following settling party: MidState Medical Center, Inc. The settlement requires the settling party to pay $100,000 to the Hazardous Substance Superfund. The settlement includes a covenant not to sue the settling party pursuant to Section 107(a) of CERCLA, 42 U.S.C. 9607(a), relating to the Site. The settlement has been approved by the Environment and Natural Resources Division of the United States Department of Justice. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 5 Post Office Square, Boston, Massachusetts 02109-3912.

DATES: Comments must be submitted on or before March 28, 2013.

ADDRESSES: Comments should be addressed to Hugh W. Martinez, Senior Enforcement Counsel, U.S. Environmental Protection Agency, Region 1, 5 Post Office Square, Suite 100 (OES 04-3), Boston, MA 02109-3912 (telephone (617) 918-1867) and should refer to the Factory H Superfund Site, U.S. EPA Docket No. CERCLA-01-2012-0112.

FOR FURTHER INFORMATION CONTACT: A copy of the proposed settlement may be obtained from Hugh W. Martinez, Senior Enforcement Counsel, U.S. Environmental Protection Agency, Region 1, 5 Post Office Square, Suite 100 (OES 04-3), Boston, MA 02109-3912 (telephone no. (617) 918-1867; email Martinez.hugh@epa.gov).

Dated: December 19, 2012.
Nancy Barmakian,
Acting Director, Office of Site Remediation and Restoration.

[FR Doc. 2013-04292 Filed 2-25-13; 8:45 am]

BILLING CODE 6560-50-P